DEPARTMENT OF AGRICULTURE

Forest Service

Madera County Resource Advisory Committee

AGENCY: Forest Service, USDA.

ACTION: Notice of Resource Advisory Committee meeting.

SUMMARY: Pursuant to the authorities in the Federal Advisory Committee Act of 1972 (Pub. L. 92-463) and under the Secure Rural Schools and Community Self-Determination Act of 2000 (Pub. L. 106-393) the Sierra National Forest's Resource Advisory Committee for Madera County will meet on Monday, February 14, 2005. The Madera Resource Advisory Committee will meet at the Bass Lake Ranger District Office, North Fork, CA, 93643. The purpose of the meeting is: review the goals for FY 2005 RAC proposals and presentation of potential stewardship projects on the Sierra National Forest.

DATES: The Madera Resource Advisory Committee meeting will be held Monday, February 14, 2005. The meeting will be held from 7 p.m. to 9 p.m.

ADDRESSES: The Madera County RAC meeting will be held at the Bass Lake Ranger District Office, 57003 Road 225, North Fork, CA 93643.

FOR FURTHER INFORMATION CONTACT: Dave Martin, U.S.D.A., Sierra National Forest, Bass Lake Ranger District, 57003 Road 225, North Fork, CA 93643, (559) 877-2218 ext. 3100; e-mail: dmartin05@fs.fed.us.

SUPPLEMENTARY INFORMATION: Agenda items to be covered include: (1) Review of goals for FY 2005 RAC proposals; (2) presentation of potential stewardship projects on the forest.

Dated: February 4, 2005.
David W. Martin,
District Ranger, Bass Lake Ranger District.

[FR Doc. 05-2566 Filed 2-9-05; 8:45 am]

BILLING CODE 3410-11-M